ENVIRONMENTAL PROTECTION AGENCY

[FRL-6867-4]

Gulf of Mexico Program (GMP) Management Committee Meeting

AGENCY: Environmental Protection Agency (EPA).

ACTION: Notice.

SUMMARY: Under the Federal Advisory Act, Public Law 92463, EPA gives notice of a meeting of the Gulf of Mexico Program (GMP) Management Committee.

DATES: The Management Committee Meeting will be held on Thursday, October 5, 2000, from 10 a.m. to 5:30 p.m. and on Friday, October 6, 2000, from 8 a.m. to 1 p.m.

ADDRESSES: The meeting will be held in the Main Auditorium (Commission Room) at the Mississippi Department of Marine Resources, 1141 Bayview Avenue, Biloxi, Mississippi 39530, (228) 374-5022, ext. 5249.

FOR FURTHER INFORMATION CONTACT: Gloria D. Car, Designated Federal Officer, Gulf of Mexico Program Office, Building 1103, Room 202, Stennis Space Center, MS 39529-6000 at (228) 688-2421.

SUPPLEMENTARY INFORMATION: Agenda items will include: GMP Workplan Status—FY 2000 Accomplishments and Annual Performance Goals and Key Milestones for FY 2001; Public Health—FY 2001 Milestones; FY2001 State Meeting Results; Coordinated Out-year Federal Budget Development; GMP/Gulf of Mexico Regional Panel Workplan Implementation; GMP/Coastal America Regional Implementation Team; Communications Committee Report; Citizens Advisory Committee Report; Results of The Nature Conservancy (TNC)—Northern Gulf of Mexico Ecoregion Initiative; Discussions of TNC Request for Formal Membership on the GMP-MC; Status Report on Louisiana Marsh Die-Off; Presentation of the Northern Gulf Littoral Initiative; Follow-up to Mercury Contamination Report; Initiate Planning for the GMP 2003 Symposium.

The meeting is open to the public.

Dated: August 29, 2000.
Gloria D. Car,
Designated Federal Officer.

[FR Doc. 00-23242 Filed 9-8-00; 8:45 am]

BILLING CODE 6560-50-P